DEPARTMENT OF COMMERCE

International Trade Administration

[A-560-802]

Certain Preserved Mushrooms from Indonesia: Final Results of Antidumping Duty Administrative Review and Final Determination to Revoke Order in Part

AGENCY: Import Administration, International Trade Administration, Department of Commerce.

ACTION: Notice of final results of antidumping duty administrative review and final determination to revoke the order in part.

SUMMARY: SUMMARY: On March 7, 2003, the Department of Commerce published the preliminary results of the administrative review of the antidumping duty order on certain preserved mushrooms from Indonesia and its intent to revoke the order in part. The review covers two manufacturers/exporters of the subject merchandise to the United States: PT Indo Evergreen Agro Business Corp., and PT Zeta Agro Corporation.¹ The period of review is February 1, 2001, through January 31, 2002.

¹ The administrative review with respect to PT Dieng Djaya and PT Surya Jaya Abadi Perkasa was rescinded on January 9, 2003 (see 68 FR 1177).

No interested party submitted comments on the preliminary results. We have made no changes to the margin calculation. Therefore, the final results do not differ from the preliminary results. The final weighted-average dumping margins for the two manufacturers/exporters are listed below in the “Final Results of Review” section of this notice.

EFFECTIVE DATE: July 2, 2003.

FOR FURTHER INFORMATION CONTACT: Rebecca Trainor or Sophie Castro, AD/CVD Enforcement Group I, Office 2, Import Administration-Room B099, International Trade Administration, U.S. Department of Commerce, 14th Street and Constitution Avenue, NW., Washington, DC 20230; telephone: (202) 482-4007, or 482-0588, respectively.

SUPPLEMENTARY INFORMATION:

Background

The review covers two manufacturers/exporters of the subject merchandise to the United States: PT Indo Evergreen Agro Business Corp. (Indo Evergreen), and PT Zeta Agro Corporation (Zeta).

On March 7, 2003, the Department of Commerce published in the Federal Register the preliminary results of administrative review of the antidumping duty order on certain preserved mushrooms from Indonesia and its intent to revoke the order in part (68 FR 11051) (Preliminary Results).

We invited parties to comment on the preliminary results of the review. No interested party submitted comments. The Department has conducted this administrative review in accordance with section 751 of the Act.

Scope of the Order

The products covered by this order are certain preserved mushrooms, whether imported whole, sliced, diced, or as stems and pieces. The preserved mushrooms covered under this order are the species Agaricus bisporus and Agaricus bitorquis. “Preserved mushrooms” refer to mushrooms that have been prepared or preserved by cleaning, blanching, and sometimes slicing or cutting. These mushrooms are then packed and heated in containers including but not limited to cans or glass jars in a suitable liquid medium, including but not limited to water, brine, butter or butter sauce. Preserved mushrooms may be imported whole, sliced, diced, or as stems and pieces. Included within the scope of this order are “brined” mushrooms, which are presalted and packed in a heavy salt solution to provisionally preserve them for further processing.

Excluded from the scope of this order are the following: (1) All other species of mushroom, including straw mushrooms; (2) all fresh and chilled mushrooms, including “refrigerated” or “quick blanched mushrooms”; (3) dried mushrooms; (4) frozen mushrooms; and (5) “marinated,” “acidified” or “pickled” mushrooms, which are prepared or preserved by means of vinegar or acetic acid, but may contain oil or other additives.

The merchandise subject to this order is currently classifiable under subheadings 2003.10.0027, 2003.10.0031, 2003.10.0037, 2003.10.0043, 2003.10.0047, 2003.10.0053, and 0711.90.4000 of the Harmonized Tariff Schedule of the United States² (HTSUS). Although the HTSUS subheadings are provided for convenience and customs purposes, the written description of the scope of this order is dispositive.

² As of January 1, 2002, the HTS codes are as follows: 2003.10.0127, 2003.10.0131, 2003.10.0137, 2003.10.0143, 2003.10.0147, 2003.10.0153, 0711.51.0000.

Determination to Revoke Order in Part

In accordance with section 351.222(b)(2) of the Department's regulations, we have determined to revoke the antidumping duty order with respect to Zeta, effective as of February 1, 2002. Zeta has sold subject merchandise in commercial quantities at prices not below its normal value for three consecutive annual reviews (see Calculation Memorandum for the Preliminary Results for P.T. Zeta Agro Corporation dated February 28, 2003). Moreover, there is no evidence on the record regarding market conditions or other factors to suggest that the order is otherwise necessary to offset dumping with respect to this company.

Final Results of the Review

As a result of our review, we determined that the following weighted-average margin percentages apply for the period February 1, 2001, though January 31, 2002:

Manufacturer/Exporter | Margin (percent)
PT Indo Evergreen Agro Business Corp. | 0.30 (de minimis)
PT Zeta Agro Corporation | 0.00

Assessment

The Department shall determine, and the U.S. Bureau of Customs and Border Protection (“BCBP”) shall assess, antidumping duties on all appropriate entries. We will issue assessment instructions directly to BCBP within 15 days of publication of these final results of review. In accordance with 19 CFR 351.106(c)(1), we will instruct BCBP to assess antidumping duties on all appropriate entries covered by this review if any importer-specific assessment rate calculated in the final results of this review is above de minimis (i.e., less than 0.50 percent). For assessment purposes, we do not have the actual entered value for Indo Evergreen and Zeta because these respondents are not the importers of record for the subject merchandise. Accordingly, we have calculated importer-specific assessment rates by aggregating the dumping margins calculated for all of Indo Evergreen's and Zeta's U.S. sales examined and dividing the respective amounts by the total quantity of the sales examined for each producer. To determine whether the duty assessment rates were de minimis, in accordance with the requirement set forth in 19 CFR 351.106(c)(2), we calculated importer-specific ad valorem ratios based on export prices.

With regard to Zeta, in accordance with 19 CFR 351.222(f)(3), we will instruct BCBP to proceed with liquidation, without regard to antidumping duties, of all unliquidated entries of certain preserved mushrooms from Indonesia entered, or withdrawn from warehouse, for consumption on or after February 1, 2002. We will further instruct BCBP to refund with interest any estimated duties collected with respect to unliquidated entries of certain preserved mushrooms exported by Zeta.

Cash Deposit Requirements

The following cash deposit requirements will be effective for all shipments of the subject merchandise entered, or withdrawn from warehouse, for consumption on or after the publication date of the final results of this administrative review, as provided by section 751(a)(1) of the Act: (1) the cash deposit rate for Indo Evergreen (Zeta is exempt due to revocation) is less than 0.50 percent, and therefore, de minimis within the meaning of 19 CFR 351.106(c)(1), and therefore the cash deposit rate is 0.00; (2) for previously reviewed or investigated companies not listed above, the cash deposit rate will continue to be the company-specific rate published for the most recent period; (3) if the exporter is not a firm covered in this review, a prior review, or the original less than fair value (“LTFV”) investigation, but the manufacturer is, the cash deposit rate will be the rate established for the most recent period for the manufacturer of the merchandise; and (4) the cash deposit rate for all other manufacturers or exporters will continue to be 11.26 percent, the “All Others” rate made effective by the LTFV investigation. These requirements shall remain in effect until publication of the final results of the next administrative review.

Notification to Importers

This notice serves as the only reminder to parties subject to the administrative protective order (APO) of their responsibility concerning the disposition of proprietary information disclosed under APO in accordance with 19 CFR 351.305(a)(3). Timely written notification of return/destruction of APO material or conversion to judicial protective order is hereby requested. Failure to comply with the regulation and the terms of an APO is a sanctionable violation.

This administrative review and notice are published in accordance with sections 751(a)(1) and 751(d)(1) of the Act and 19 CFR 351.221 and 19 CFR 351.222.

Dated: June 23, 2003.
Joseph A. Spetrini,
Acting Assistant Secretary for Import Administration.

[FR Doc. 03-16667 Filed 7-1-03; 8:45 am]

BILLING CODE 3510-DS-S